NATIONAL SCIENCE FOUNDATION

Notice of Meetings

In accordance with the Federal Advisory Committee Act (Pub. L. 92-463, as amended), the National Science Foundation announces the following meetings:

Name: Special Emphasis Panel in Physics (1208).

Date/Time: December 7-8, 2000; 8 a.m.-5:30 p.m.

Contact Person: Dr. Eugene Loh, Program Director for Elementary Particle Physics, Division of Physics, 4201 Wilson Boulevard, Room 1015, Arlington, VA 22230. Telephone: (703) 292-7379.

Purpose of Meeting: To provide advice and recommendations concerning proposals submitted to the Elementary Particle Physics Program for financial support.

Name: Special Emphasis Panel in Astronomical Sciences (1186).

Date/Time: December 7-8, 2000; 8:30 a.m.-5:30 p.m.

Contact Person: Dr. Richard Barvainis, Program Director, Division of Astronomical Sciences, 4201 Wilson Boulevard, Room 1045, Arlington, VA 22230. Telephone: (703) 292-8820.

Purpose of Meeting: To provide advice and recommendations concerning proposals submitted to the Division of Astronomical Sciences for financial support.

Name: Special Emphasis Panel in Engineering Education and Centers (173).

Date/Time: January 8-9, 2001; 8:30 a.m.-5:30 p.m.

Contact Person: Ms. Mary Poats, Program Manager, Engineering Education and Centers Division, 4201 Wilson Boulevard, Room 585, Arlington, VA 22230. Telephone: (703) 292-8380.

Purpose of Meeting: To provide advice and recommendations concerning proposals submitted to the Research Experiences for Undergraduates Program for financial support.

Name: Special Emphasis Panel in Civil and Mechanical Systems (1205).

Date/Time: January 11, 2001; 8 a.m.-5:30 p.m.

Contact Person: Dr. Jorn Larsen-Basse, Program Director, Surfaces Engineering and Material Design, Division of Civil and Mechanical Systems, 4201 Wilson Boulevard, Room 545, Arlington, VA 22230. Telephone: (703) 292-8360.

Purpose of Meeting: To provide advice and recommendations concerning proposals submitted to the FY'01 Surface Engineering and Material Design Review Panel for financial support.

Name: Special Emphasis Panel in Biological Sciences (1754).

Date/Time: December 12, 2000; 8 a.m.-3 p.m.

Contact Person: Dr. Gerald Selzer, Program Director, Living Stock Collections, Division of Biological Infrastructure, 4201 Wilson Boulevard, Room 615, Arlington, VA 22230. Telephone: (703) 292-8470.

Purpose of Meeting: To provide advice and recommendations concerning proposals submitted to the Living Stock Collections for financial support.

Name: Special Emphasis Panel in Astronomical Sciences (1186).

Dates/Times:

December 5-6, 2000, 8:30 a.m.-5 p.m.

December 7-8, 2000, 8:30 a.m.-5 p.m.

December 12-13, 2000, 8:30 a.m.-5 p.m.

December 14-15, 2000, 8:30 a.m.-5 p.m.

December 18-19, 2000, 8:30 a.m.-5 p.m.

December 19-20, 2000, 8:30 a.m.-5 p.m.

Contact Person: Ms. Claudette Merrick, 4201 Wilson Boulevard, Room 1045, Arlington, VA 22230. Telephone: (703) 292-8820.

Purpose of Meeting: To provide advice and recommendations concerning proposals submitted to the Division of Astronomical Sciences for financial support.

Name: Special Emphasis Panel in Mathematical Sciences (1204).

Date/Time: January 25-27, 2001; 8:30 a.m.-5:00 p.m.

Contact Person: Dr. Alvin Thaler, Program Director, 4201 Wilson Boulevard, Room 1025, Arlington, VA 22230. Telephone: (703) 292-4863.

Purpose of Meeting: To provide advice and recommendations concerning proposals submitted to the Algebra and Number Theory, and Combinatorics Program for financial support.

Name: Advisory Panel for Social and Political Sciences (1761).

Date/Time: December 5-7, 2000; 9:00 a.m.-7:00 p.m.

Contact Person: Dr. Doris Marie Provine, Program Director for Law and Social Science, and Dr. Patricia White, Program Director for Sociology, 4201 Wilson Boulevard, Room 980, Arlington, VA 22230. Telephone: (703) 292-8762.

Purpose of Meeting: To provide advice and recommendations concerning political science proposals submitted for financial support.

Name: Advisory Committee for Computer and Information Science and Engineering (1115).

Date/Time: December 1, 2000; 8:00 a.m.-5:00 p.m.

Contact Person: Aubrey M. Bush and Thomas J. Greene, Division of Advanced Networking and Infrastructure Research, 4201 Wilson Boulevard, Room 1175, Arlington, VA 22230. Telephone: (703) 292-8948.

Purpose of Meeting: To provide advice and recommendations concerning Middleware Program initiative for ANIR.

Name: Special Emphasis Panel in Materials Research (1203).

Date/Time: December 14-15, 2000; 8:00 a.m.-6:00 p.m.

Contact Person: Dr. Ulrich Strom, Program Director, Materials Research Science and Engineering Centers, Division of Materials Research, 4201 Wilson Boulevard, Room 1065, Arlington, VA 22230. Telephone: (703) 292-4938.

Purpose of Meeting: To provide advice and recommendations concerning proposals submitted to the FY'01 Nanoscale Science and Engineering Centers Competition for financial support.

Type of Meetings: Closed.

Place of Meetings: National Science Foundation, 4201 Wilson Boulevard, Arlington, VA.

Agenda: Review and evaluate proposals as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: November 24, 2000.
Karen J. York,
Committee Management Officer.

[FR Doc. 00-30577 Filed 11-30-00; 8:45 am]

BILLING CODE 7555-01-M